NUCLEAR REGULATORY COMMISSION

[NRC-2020-0171]

Setpoints for Safety-Related Instrumentation

AGENCY: Nuclear Regulatory Commission.

ACTION: Regulatory guide; issuance.

SUMMARY: The U.S. Nuclear Regulatory Commission (NRC) is issuing Revision 4 to Regulatory Guide (RG) 1.105, “Setpoints for Safety-Related Instrumentation.” This RG describes an approach that is acceptable to the staff of the NRC to meet regulatory requirements ensuring that setpoints for safety-related instrumentation are established and maintained within the technical specification limits. RG 1.105 has been revised to incorporate additional information regarding American National Standards Institute (ANSI)/International Society of Automation (ISA) Standard 67.04.01-2018, “Setpoints for Nuclear Safety Related Instrumentation.”

DATES: Revision 4 to RG 1.105 is available on February 22, 2021.

ADDRESSES: Please refer to Docket ID NRC-2020-0171 when contacting the NRC about the availability of information regarding this document. You may obtain publicly available information related to this document using any of the following methods:

• Federal Rulemaking website: Go to https://www.regulations.gov and search for Docket ID NRC-2020-0171. Address questions about Docket IDs in Regulations.gov to Stacy Schumann; telephone: 301-415-0624; email: Stacy.Schumann@nrc.gov. For technical questions, contact the individuals listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov.

• Attention: The PDR, where you may examine and order copies of public documents, is currently closed. You may submit your request to the PDR via email at pdr.resource@nrc.gov or call 1-800-397-4209 or 301-415-4737, between 8:00 a.m. and 4:00 p.m. (EST), Monday through Friday, except Federal holidays.

Revision 4 to RG 1.105 and the Regulatory Analysis may be found in ADAMS under Accession Nos. ML20330A329 and ML20055G824, respectively.

Regulatory guides are not copyrighted, and NRC approval is not required to reproduce them.

FOR FURTHER INFORMATION CONTACT: Dawnmathews Kalathiveettil, Office of Nuclear Reactor Regulation, telephone: 301-415-5905, email: Dawnmathews.Kalathiveettil@nrc.gov, and Michael Eudy, Office of Nuclear Regulatory Research, telephone: 301-415-3104, email: Michael.Eudy@nrc.gov. Both are staff of the U.S. Nuclear Regulatory Commission, Washington, DC 20555-0001.

SUPPLEMENTARY INFORMATION:

I. Discussion

The NRC is issuing a revision to an existing guide in the NRC's “Regulatory Guide” series. This series was developed to describe and make available to the public information regarding methods that are acceptable to the NRC staff for implementing specific parts of the agency's regulations, techniques that the NRC staff uses in evaluating specific issues or postulated events, and data that the NRC staff needs in its review of applications for permits and licenses.

Revision 4 to RG 1.105 endorses ANSI/ISA 67.04.01-2018 as a method acceptable to the NRC staff for satisfying the NRC's regulations for ensuring that: (a) setpoints for safety-related instrumentation are established to protect plant safety and analytical limits, and (b) the maintenance of instrument channels implementing these setpoints ensures they are functioning as required, consistent with the plant technical specifications. This RG applies to licensees and applicants subject to part 50 of title 10 of the Code of Federal Regulations (10 CFR), “Domestic Licensing of Production and Utilization Facilities,” and 10 CFR part 52, “Licenses, Certifications, and Approvals for Nuclear Power Plants.”

II. Additional Information

Revision 4 of RG 1.105 was issued with a temporary identification of Draft Regulatory Guide, DG-1363, titled, “Setpoints for Safety-Related Instrumentation,” (ADAMS Accession No. ML20055G823). The NRC published a notice of the availability of DG-1363 in the Federal Register on August 14, 2020 (85 FR 49685) for a 30-day public comment period. The public comment period closed on September 14, 2020, and the NRC received 24 comment documents. Public comments on DG-1363 and the staff responses to the public comments are available in ADAMS under Accession No. ML20330A328.

III. Congressional Review Act

This RG is a rule as defined in the Congressional Review Act (5 U.S.C. 801-808). However, the Office of Management and Budget has not found it to be a major rule as defined in the Congressional Review Act.

IV. Backfitting, Forward Fitting, and Issue Finality

Revision 4 of RG 1.105 endorses ANSI/ISA 67.04.01-2018 and does not constitute backfitting as defined in 10 CFR 50.109, “Backfitting,” and as described in NRC Management Directive (MD) 8.4, “Management of Backfitting, Forward Fitting, Issue Finality, and Information Requests”; constitute forward fitting as that term is defined and described in MD 8.4; or affect the issue finality of any approval issued under 10 CFR part 52. As explained in Revision 4 to RG 1.105, applicants and licensees are not required to comply with the positions set forth in the RG.

Dated: February 16, 2021.
For the Nuclear Regulatory Commission.
Meraj Rahimi,
Chief, Regulatory Guidance and Generic Issues Branch, Division of Engineering, Office of Nuclear Regulatory Research.

[FR Doc. 2021-03466 Filed 2-19-21; 8:45 am]

BILLING CODE 7590-01-P